DEPARTMENT OF AGRICULTURE

Food and Nutrition Service

Agency Information Collection Activities: Proposed Collection; Comment Request: Uniform Grant Application Package for Discretionary Grant Programs

AGENCY: Food and Nutrition Service (FNS), USDA.

ACTION: Notice.

SUMMARY: In accordance with the Paperwork Reduction Act of 1995, this notice invites the general public and other public agencies to comment on this proposed information collection. This collection is a revision of a currently approved collection.

The purpose of the Uniform Grant Application Package for Discretionary Grant Programs is to provide a standardized format for the development of all Requests for Applications for discretionary grant programs released by the Food and Nutrition Service (FNS) Agency and to allow for a more expeditious OMB clearance process.

DATES: Written comments must be received on or before December 3, 2018.

ADDRESSES: Comments may be sent to: Mark Porter, Food and Nutrition Service, U.S. Department of Agriculture, 3101 Park Center Drive, Room 733, Alexandria, VA 22302. Comments may also be submitted via email to Mark.Porter@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Mark Porter at 703-305-2048.

SUPPLEMENTARY INFORMATION: Title: Uniform Grant Application Package for Discretionary Grant Programs.

Form Number: FNS 908 and FNS 887.

OMB Number: 0584-0512.

Expiration Date: March 31, 2019.

Type of Request: Revision of a currently approved collection.

Abstract: FNS has a number of discretionary grant programs. (Consistent with the definition in 2 CFR part 200, the term “grant” as used in this notice includes cooperative agreements.) The authorities for these grants vary and will be cited as part of each grant application solicitation. The purpose of the revision to the currently approved collection for the Uniform Grant Application Package for Discretionary Grant Programs is to continue the authority for the established uniform grant application package and to update the number of collection burden hours. The uniform collection package is useable for all of FNS' discretionary grant programs to collect information from grant applicants that are needed to evaluate and rank applicants and protect the integrity of the grantee selection process. All FNS discretionary grant programs will be eligible but not required, to use the uniform grant application package. Before soliciting applications for a discretionary grant program, FNS will decide whether the uniform grant application package will meet the needs of that grant program. If FNS decides to use the uniform grant application package, FNS will note in the grant solicitation that applicants must use the uniform grant application package and that the information collection has already been approved by OMB. If FNS decides not to use the uniform grant application package or determines that it needs grant applicants to provide additional information not contained in the uniform package, then FNS will publish a notice soliciting comments on its proposal to collect different or additional information before making the grant solicitation.

The uniform grant application package will include: General information and instructions; a checklist; a requirement for the program narrative statement describing how the grant goals and objectives will be reached; the Standard Form (SF) 424 series forms that request basic grant project information, budget information, and a disclosure of lobbying activities certification; the Grant Program Accounting System and Financial Capability Questionnaire, used to evaluate potential grantee risk; and the Standardized Performance Progress Report. The proposed information collection covered by this notice is related to the requirements for the program narrative statement. The requirements for the program narrative statement described in 2 CFR part 200, Appendix I and will apply to all types of grantees—State and Local governments, Indian Tribal organizations, Non-Profit organizations, Institutions of Higher Education, and For-Profit organizations. The information collection burden related to the SF-424 series, and the lobbying certification forms have been separately approved by OMB.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Affected Public: State and local governments, Indian Tribal organizations, Non-Profit organizations, Institutions of Higher Education, and For-Profit organizations. The estimates include the total annual estimates with a final seeking three-year burden upfront for this generic request. This includes the time for the proposal (pre-award) and for the reporting and recordkeeping burdens (post-award) after awarding these grant opportunities.

Pre-Award Reporting Burden Estimates

Estimated Number of Respondents: 950.

Estimated Number of Responses per respondent: 1.

Estimated Total Annual Responses: 950.

Estimated Hours per Response: 60.00.

Estimated Annual Burden Hours: 57,000.

Post-Award Reporting Burden Estimates

Estimated Number of Respondents: 644.

Estimated Number of Responses per respondent: 9.80745342.

Estimated Total Annual Responses: 6,316.

Estimated Hours per Response: 2.26 Average.

Estimated Annual Burden Hours: 14,274.16.

Post-Award Recordkeeping Burden Estimates

Estimated Total Number of Recordkeepers: 332.

Estimated Total Annual Response per Recordkeeper: 10.

Estimated Total Annual Responses: 3,320.

Estimated annual hours per record keepers: 0.25.

Estimated Total Annual Burden Hours: 830.

Grand Total Annual Pre, Post Reporting Burden Estimates & Recordkeeping Hours: 72,107 and Estimated Total Annual Responses: 10,586.

See the table below for estimated total annual and the three year burden for each type of respondent.

Annual Grant Opportunities FY 2019-2022
| Number of respondents | Frequency of responses | Total annual responses | Estimated time per response | Estimated total annual burden hours
Pre-Award Annual Total Reporting Burden (Request for Applications) | 950 | 1 | 950 | 60 | 57,000
Annual Post Award Reporting Burden Totals
Post-Award Total Reporting Burden | 644 | 9.80745342 | 6,316 | 2.26 | 14,274
Grand Total Annual Reporting Burden | 950 | 7.64842105 | 7,266 | 9.8092485549 | 71,274
| Number recordkeepers | Annual number records per respondent | Estimated total annual records | Hours per recordkeeper | Total burden
State Agencies, Local and Tribal (SLT)
Post Award Recordkeeping Total Burden Estimates | 332 | 10 | 3,320 | 0.25 | 830
Pre and Post Total Annual Reporting + Recordkeeping Burden Estimates |  |  | 10,586 |  | 72,104
Pre and Post Total Annual Reporting + Recordkeeping Burden Estimates for 3 year approval period | 2,850 |  | 31,758 |  | 216,312.48
* Note: Out of the 950 respondents who will submit proposal, 644 will be awarded and those unique respondents will go on to report Post Reporting burden and only 332 will maintain Recordkeeping burden hours and therefore, those respondents are not double counted.
** Note: This collection uses Common Forms and the burdens cleared by OMB under other agencies. Common Standard Forms; SF 424 Family Series, SF 425, SF LLL and AD-1047, AD-1048, AD-1049, AD-1052, AD-3020.

Dated: September 26, 2018.
Brandon Lipps,
Administrator, Food and Nutrition Service.

[FR Doc. 2018-21550 Filed 10-2-18; 8:45 am]

BILLING CODE 3410-30-P